DEPARTMENT OF TRANSPORTATION

Maritime Administration

[Docket No. MARAD-2005-21380]

Title XI Remedies

AGENCY: Maritime Administration, Department of Transportation.

ACTION: Notice of extension of comment period.

SUMMARY: The Maritime Administration is hereby giving notice that the closing date for filing comments on the Notice and Request for Comments on New Title XI Remedies (Docket No. MARAD 2005-21380) has been extended to the close of business (5 p.m. e.d.t.) on August 8, 2005. The Notice and Request for Comments was published in the Federal Register on June 8, 2005 (70 FR 33581).

By Order of the Maritime Administrator.
Dated: July 1, 2005.
Joel C. Richard,
Secretary, Maritime Administration.

[FR Doc. 05-13364 Filed 7-6-05; 8:45 am]

BILLING CODE 4910-81-P